ENVIRONMENTAL PROTECTION AGENCY

40 CFR Part 52

[EPA-R04-OAR-2012-0762; FRL-9781-9]

Approval and Promulgation of Implementation Plans; Tennessee: Approve Knox County Supplemental Motor Vehicle Emissions Budget Update

AGENCY: Environmental Protection Agency (EPA).

ACTION: Proposed rule.

SUMMARY: EPA is proposing to approve a revision to the Tennessee State Implementation Plan (SIP), submitted to EPA on December 13, 2012, by the State of Tennessee, through the Tennessee Department of Environment and Conservation. Tennessee's December 13, 2012, SIP revision includes changes to the maintenance plan for the Knox County 1-hour ozone area submitted on August 26, 1992, and approved by EPA on September 27, 1993, and a subsequent SIP revision approved by EPA on August 5, 1997. The Knox County 1-hour ozone area was comprised of Knox County in its entirety. The December 13, 2012, SIP revision proposes to increase the safety margin allocated to motor vehicle emissions budgets for nitrogen oxides and volatile organic compounds for Knox County to account for changes in the emissions model and vehicle miles traveled projection model. EPA is approving this SIP revision because the State has demonstrated that it is consistent with the Clean Air Act.

DATES: Written comments must be received on or before March 22, 2013.

ADDRESSES: Submit your comments, identified by Docket ID No. EPA-R04-OAR-2012-0762 by one of the following methods:

1. www.regulations.gov: Follow the on-line instructions for submitting comments.

2. Email: R4-RDS@epa.gov.

3. Fax: (404) 562-9019.

4. Mail: “EPA-R04-OAR-2013-0762,” Regulatory Development Section, Air Planning Branch, Air, Pesticides and Toxics Management Division, U.S. Environmental Protection Agency, Region 4, 61 Forsyth Street SW., Atlanta, Georgia 30303-8960.

5. Hand Delivery or Courier: Lynorae Benjamin, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Kelly Sheckler, Air Quality Modeling and Transportation Section, Air Planning Branch, Air, Pesticides and Toxics Management Division, U.S. Environmental Protection Agency, Region 4, 61 Forsyth Street SW., Atlanta, Georgia 30303-8960. Kelly Sheckler may be reached by phone at (404) 562-9222 or by electronic mail address sheckler.kelly@epa.gov.

SUPPLEMENTARY INFORMATION: On December 18, 2012, EPA proposed to approve, through parallel processing, a draft revision to the Tennessee SIP. EPA explained in that notice that if the State's final submission was changed, EPA will evaluate those changes and if necessary and appropriate, issue another notice of proposed rulemaking. Tennessee's final submittal was different from its draft submittal and as a result, EPA is now taking direct final action and this proposed action to approve Tennessee's final submittal dated December 13, 2012. Today's actions replace and supercede EPA's previous December 18, 2012, proposal action.

Additionally, on March 12, 2008, EPA issued a revised ozone National Ambient Air Quality Standards (NAAQS). See 73 FR 16436. The current action, however, is being taken to address requirements under the 1997 8-hour ozone NAAQS.

For additional information regarding today's action see the direct final rule which is published in the Rules Section of this Federal Register. Through that direct final rule, EPA is approving the State's implementation plan revision without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

Dated: February 7, 2013.
A. Stanley Meiburg,
Acting Regional Administrator, Region 4.

[FR Doc. 2013-03764 Filed 2-19-13; 8:45 am]

BILLING CODE 6560-50-P